DEPARTMENT OF COMMERCE

National Telecommunications and Information Administration

[Docket No. 071023616-7617-01]

The Continued Transition of the Technical Coordination and Management of the Internet's Domain Name and Addressing System: Midterm Review of the Joint Project Agreement

AGENCY: National Telecommunications and Information Administration, U.S. Department of Commence

ACTION: Notice of Inquiry

SUMMARY: The United States Department of Commerce's National Telecommunications and Information Administration (NTIA) seeks comments on the continued transition to the private sector of the technical coordination and management of the Internet's domain name and addressing system (DNS). NTIA and the Internet Corporation for Assigned Names and Numbers (ICANN) signed a Joint Project Agreement (JPA) on September 29, 2006. It called for a midpoint review of ICANN's progress towards becoming a more stable organization with greater transparency and accountability in its procedures and decision making. The Department of Commerce seeks comment regarding the progress achieved on the Responsibilities identified in the JPA.

DATES: Comments are due on or before February 15, 2008.

ADDRESSES: Written comments may be submitted by mail to Suzanne R. Sene, Office of International Affairs, National Telecommunications and Information Administration, 1401 Constitution Avenue, N.W., Room 4701, Washington, DC 20230. Paper submissions should include a three and one-half inch computer diskette in HTML, ASCII, Word or WordPerfect format (please specify version). Diskettes should be labeled with the name and organizational affiliation of the filer, and the name of the word processing program used to create the document. Alternatively, comments may be submitted electronically to JPAMidTermReview@ntia.doc.gov. Comments provided via electronic mail should also be submitted in one or more of the formats specified above. Comments will be posted to NTIA's website at http://www.ntia.doc.gov/ntiahome/domainname/jpamidtermreview.html.

FOR FURTHER INFORMATION CONTACT: For questions about this Notice contact: Suzanne R. Sene, National Telecommunications and Information Administration, U.S. Department of Commerce, 1401 Constitution Avenue, N.W., Room 4701, Washington, DC 20230; telephone: (202) 482-3167; or email: ssene@ntia.doc.gov Please direct media inquiries to the Office of Public Affairs, NTIA, at (202) 482-7002.

SUPPLEMENTARY INFORMATION: Background: A July 1, 1997 Executive Memorandum directed the Secretary of Commerce to privatize the domain name system (DNS) in a manner that increases competition and facilitates international participation in its management.¹ In order to fulfill this Presidential directive, the Department of Commerce in June 1998, issued a statement of policy on the privatization of the Internet Domain Name System (DNS), known as the DNS White Paper.² This document articulated four primary functions for global DNS coordination and management:

¹ Memorandum on Electronic Commerce, 2 Pub. Papers 898 (July 1, 1997).

² Management of Internet Names and Addresses, 63 Fed. Reg. 31,741 (June 10, 1998).

1. To set policy for and direct the allocation of IP number blocks;

2. To oversee the operation of the Internet root server system;

3. To oversee policy for determining the circumstances under which new top level domains (TLDs) would be added to the root server system; and

4. To coordinate the assignment of other technical protocol parameters as needed to maintain universal connectivity on the Internet.

In the DNS White Paper, the Department of Commerce concluded that these functions were relevant to the state of the DNS and should be primarily performed through private sector management. To this end, the Department of Commerce stated that it was prepared to enter into agreement with a new not-for-profit corporation formed by private sector Internet stakeholders. Private sector interests formed the Internet Corporation for Assigned Names and Numbers (ICANN) for this purpose. In the fall of 1998, the Department of Commerce entered into a Memorandum of Understanding (MOU) with ICANN, a California non-profit corporation, to transition technical DNS coordination and management functions to the private sector.³

³ Memorandum of Understanding Between the U.S. Department of Commerce and the Internet Corporation for Assigned Names and Numbers (November 25, 1998), available at http://www.ntia.doc.gov/ntiahome/domainname/icann-memorandum.htm.

On June 30, 2005 NTIA released the U.S. Principles on the Internet's Domain Name and Addressing System, which state: the United States Government intends to preserve the security and stability of the DNS by maintaining its historic role in authorizing changes or modifications to the authoritative root zone file; governments have legitimate interest in the management of their country code top level domains (ccTLD); ICANN is the appropriate technical manager of the Internet's DNS; and dialogue related to Internet governance should continue in relevant multiple fora.⁴

⁴U.S. Department of Commerce, U.S. Principles on the Internet's Domain Name and Addressing System (June 30, 2005), http://www.ntia.doc.gov/ntiahome/domainname/usdnsprinciples_06302005.htm.

On May 23, 2006, NTIA issued a Notice of Inquiry and announced a Public Meeting on The Continued Transition of the Technical Coordination and Management of the Internet Domain Name and Addressing System.⁵ The public consultation resulted in over 700 contributions from individuals, private corporations, trade associations, non-governmental entities and foreign governments. It showed broad support for continuing the transition of the coordination of the technical management of the DNS to the private sector and the continued involvement of the DOC in this transition. On September 29, 2006, NTIA and ICANN signed a Joint Project Agreement (JPA) extending the current Memorandum of Understanding between the Department and ICANN. The JPA called for a midpoint review of ICANN's progress towards becoming a more stable organization with greater transparency and accountability in its procedures and decision making.

⁵U.S. Department of Commerce,Notice of Inquiry, Notice of Public Meeting: The Continued Transition of the Technical Coordination and Management of the Internet Domain Name and Addressing System to the private sector. http://www.ntia.doc.gov/ntiahome/domainname/dnstransition.html.

REQUEST FOR COMMENT:

Given the requirement of a midterm review in the JPA, NTIA seeks comments on the progress achieved on the Responsibilities included in the JPA.

The questions below are intended to assist in identifying the issues and should not be construed as a limitation on comments that may be submitted. When references are made to studies, research, and other empirical data that are not widely published, please provide copies of the referenced materials with the submitted comments.

1. In the JPA, ICANN agreed to undertake the following with respect to security and stability: “ICANN shall coordinate, at the overall level, the global Internet's systems of unique identifiers, and in particular to ensure the stable and secure operation of the Internet's unique identifier systems.”⁶ What progress do you believe ICANN has achieved with regard to this Responsibility since October 1, 2006? If you believe that progress has been made, please explain how and why? Could more be done by ICANN in this area?

⁶See JPA Annex A, ¶ 1.

2. In the JPA, ICANN agreed to undertake the following with respect to transparency: “ICANN shall continue to develop, test and improve processes and procedures to encourage improved transparency, accessibility, efficiency, and timeliness in the consideration and adoption of policies related to technical coordination of the Internet DNS, and funding for ICANN operations. ICANN will innovate and aspire to be a leader in the area of transparency for organizations involved in private sector management.”⁷ What progress do you believe ICANN has achieved with regard to this Responsibility since October 1, 2006? If you believe that progress has been made, please explain how and why? Could more be done by ICANN in this area?

⁷Id at ¶ 2.

3. In the JPA, ICANN agreed to undertake the following with respect to accountability: “ICANN shall continue to develop, test, maintain, and improve on accountability mechanisms to be responsive to global Internet stakeholders in the consideration and adoption of policies related to the technical coordination of the Internet DNS, including continuing to improve openness and accessibility for enhanced participation in ICANN's bottom-up participatory policy development processes.”⁸ What progress do you believe ICANN has achieved with regard to this Responsibility since October 1, 2006? If you believe that progress has been made, please explain how and why? Could more be done by ICANN in this area?

⁸Id at ¶ 3.

4. In the JPA, ICANN agreed to undertake the following with respect to root server security and relationships: “ICANN shall continue to coordinate with the operators of root name servers and other appropriate experts with respect to the operational and security matters, both physical and network, relating to the secure and stable coordination of the root zone; ensure appropriate contingency planning; maintain clear processes in root zone changes. ICANN will work to formalize relationships with root name server operators.”⁹ What progress do you believe ICANN has achieved with regard to this Responsibility since October 1, 2006? If you believe that progress has been made, please explain how and why? Could more be done by ICANN in this area?

⁹Id at ¶ 4.

5. In the JPA, ICANN agreed to undertake the following with respect to TLD management: “ICANN shall maintain and build on processes to ensure that competition, consumer interests, and Internet DNS stability and security issues are identified and considered in TLD management decisions, including the consideration and implementation of new TLDs and the introduction of IDNs. ICANN will continue to develop its policy development processes, and will further develop processes for taking into account recommendations from ICANN's advisory committees and supporting organizations and other relevant expert advisory panels and organizations. ICANN shall continue to enforce existing policy relating to WHOIS, such existing policy requires that ICANN implement measures to maintain timely, unrestricted and public access to accurate and complete WHOIS information, including registrant, technical, billing and administrative contact information. ICANN shall continue its efforts to achieve stable agreements with country-code top-level domain (ccTLD) operators.”¹⁰ What progress do you believe ICANN has achieved with regard to this Responsibility since October 1, 2006? If you believe that progress has been made, please explain how and why? Could more be done by ICANN in this area?

¹⁰Id at ¶ 5.

6. In the JPA, ICANN agreed to undertake the following with respect to the multi-stakeholder model: “ICANN shall maintain and improve multi-stakeholder model and the global participation of all stakeholders, including conducting reviews of its existing advisory committees and supporting organizations, and will continue to further the effectiveness of the bottom-up policy development processes. ICANN will strive to increase engagement with the Private Sector by developing additional mechanisms for involvement of those affected by the ICANN policies.”¹¹ What progress do you believe ICANN has achieved with regard to this Responsibility since October 1, 2006? If you believe that progress has been made, please explain how and why? Could more be done by ICANN in this area?

¹¹Id at ¶ 6.

7. In the JPA, ICANN agreed to undertake the following with respect to the role of governments: “ICANN shall work with the Government Advisory Committee Members to review the GAC's role within ICANN so as to facilitate effective consideration of GAC advice on the public policy aspects of the technical coordination of the Internet.”¹² What progress do you believe ICANN has achieved with regard to this Responsibility since October 1, 2006? If you believe that progress has been made, please explain how and why? Could more be done by ICANN in this area?

¹²Id at ¶ 7.

8. In the JPA, ICANN agreed to undertake the following with respect to IP addressing: “ICANN shall continue to work collaboratively on a global and regional level so as to incorporate Regional Internet Registries' policy-making activities into the ICANN processes while allowing them to continue their technical work. ICANN shall continue to maintain legal agreements with the RIRs (and such other appropriate organizations) reflecting this work.”¹³ What progress do you believe ICANN has achieved with regard to this Responsibility since October 1, 2006? If you believe that progress has been made, please explain how and why? Could more be done by ICANN in this area?

¹³Id at ¶ 8.

9. In the JPA, ICANN agreed to undertake the following with respect to corporate responsibility: “ICANN shall maintain excellence and efficiency in operations, including good governance, organizational measures to maintain stable, international private sector organization, and shall maintain relevant technical and business experience for members of the Board of Directors, executive management, and staff. ICANN will implement appropriate mechanisms that foster participation in ICANN by global Internet stakeholders, such as providing educational services and fostering information sharing for constituents and promoting best practices among industry segments.”¹⁴ What progress do you believe ICANN has achieved with regard to this Responsibility since October 1, 2006? If you believe that progress has been made, please explain how and why? Could more be done by ICANN in this area?

¹⁴Id at ¶ 9.

10. In the JPA, ICANN agreed to undertake the following with respect to its corporate administrative structure: “ICANN shall conduct a review of, and shall make necessary changes in, corporate administrative structure to ensure stability, including devoting adequate resources to contract enforcement, taking into account organizational and corporate governance “best practices.”¹⁵ What progress do you believe ICANN has achieved with regard to this Responsibility since October 1, 2006? If you believe that progress has been made, please explain how and why? Could more be done by ICANN in this area?

¹⁵Id at ¶ 10.

Dated: October 30, 2007.
John M. R. Kneuer,
Assistant Secretary for Communications and Information.

[FR Doc. E7-21626 Filed 11-1-07; 8:45 am]

BILLING CODE 3510-60-S